DEPARTMENT OF ENERGY

Federal Energy Regulatory Commission

[Docket No. EL20-13-000]

Notice of Petition for Partial Waiver; Old Dominion Electric Cooperative

Take notice that on December 20, 2019, pursuant to section 292.402 of the Federal Energy Regulatory Commission's (Commission) Rules and Regulations,¹ Old Dominion Electric Cooperative (ODEC), filed a petition for partial waiver on behalf of its electric distribution cooperative member-owners (collectively, the Members),² of certain obligations imposed on ODEC and the Members under Sections 292.303(a) and 292.303(b) of the Commission's Regulations ³ implementing section 210 of the Public Utility Regulatory Policies Act of 1978, as amended (PURPA),⁴ all as more fully explained in the petition.

¹ 18 CFR 292.402 (2019).

² ODEC's 11 Members are A&N Electric Cooperative, BARC Electric Cooperative, Choptank Electric Cooperative, Inc., Community Electric Cooperative, Delaware Electric Cooperative, Inc., Mecklenburg Electric Cooperative, Northern Neck Electric Cooperative, Prince George Electric Cooperative, Rappahannock Electric Cooperative, Shenandoah Valley Electric Cooperative, and Southside Electric Cooperative.

³ 18 CFR 292.303(a), 292.303(b) (2019).

⁴ 16 U.S.C. 824a-3.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comments: 5:00 p.m. Eastern Time on January 10, 2020.

Dated: December 20, 2019.
Kimberly D. Bose,
Secretary.

[FR Doc. 2019-28118 Filed 12-27-19; 8:45 am]

BILLING CODE 6717-01-P